DEPARTMENT OF COMMERCE

International Trade Administration

[A-588-850]

Notice of Rescission of Antidumping Duty Administrative Review: Certain Large Diameter Carbon and Alloy Seamless Standard, Line, and Pressure Pipe From Japan

AGENCY: Import Administration, International Trade Administration, Department of Commerce.

ACTION: Notice of rescission of antidumping duty administrative review.

EFFECTIVE DATE: January 6, 2004.

SUMMARY: On July 29, 2003, the Department of Commerce (the Department) published in the Federal Register (68 FR 44524) a notice announcing the initiation of an administrative review of the antidumping duty order on certain large diameter carbon and alloy seamless standard, line, and pressure pipe from Japan covering the period June 1, 2002, through May 31, 2003. This review was requested by United States Steel Corporation (the petitioner). We are now rescinding this review as a result of the petitioner's withdrawal of its request for an administrative review.

FOR FURTHER INFORMATION CONTACT: Constance Handley or Keith Nickerson, at (202) 482-0631 or (202) 482-3813, respectively; AD/CVD Enforcement, Office 5, Group II, Import Administration, International Trade Administration, U.S. Department of Commerce, 14th Street & Constitution Avenue, NW., Washington, DC 20230.

SUPPLEMENTARY INFORMATION:

Background

In accordance with 19 CFR 351.213(b), on June 30, 2003, the petitioner requested an administrative review of the antidumping duty order for Kawasaki Steel Corporation, Nippon Steel Corporation, NKK Tubes and Sumitomo Metal Industries, Ltd. (collectively, the respondents) on certain large diameter carbon and alloy seamless standard, line, and pressure pipe from Japan. On July 29, 2003, in accordance with 19 CFR 351.221(c)(1)(i), we initiated an administrative review of this order for the period June 1, 2002, through May 31, 2003 (68 FR 44524). The petitioner withdrew its request for this review on December 22, 2003.

Rescission of Review

The Department's regulations at 19 CFR 351.213(d)(1) provide that the Department will rescind an administrative review if the party that requested the review withdraws its request for review within 90 days of the date of publication of the notice of initiation of the requested review. The regulations further provide that the Secretary “may extend this time limit if the Secretary decides that it is reasonable to do so.” The petitioner was the only party to request this review. Although the petitioner's withdrawal request for this review was not within the normal time limit as prescribed in section 351.213(d)(1) of the Department's regulations, we find that, under the circumstances of this review, it is appropriate to accept the withdrawal request and rescind the review. Continuing the review would only require the petitioner, respondents, and the Department expend time and resources on a review in which the only party that requested the review is no longer interested.

The respondents have either claimed no shipments during the period of review or have stated that they will not participate in the review in response to the Department's questionnaire, and, therefore, the Department has neither released supplemental questionnaires nor conducted verification at this point in the proceeding. Accordingly, the Department does not believe the administrative review has proceeded to a point at which it would be “unreasonable” to rescind the review. The Department, therefore, determines that it is reasonable to extend the 90-day time limit and to rescind the administrative review. The Department will issue appropriate assessment instructions to U.S. Customs and Border Protection within 15 days of publication of this notice.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with 19 CFR 351.213(d)(4) and section 777(i)(1) of the Tariff Act of 1930, as amended.

Dated: December 31, 2003.
Gary Taverman,
Acting Deputy Assistant Secretary for Import Administration.

[FR Doc. 04-237 Filed 1-5-04; 8:45 am]

BILLING CODE 3510-DS-P